DEPARTMENT OF ENERGY

Federal Energy Regulatory Commission

[Project No. 14539-000; Project No. 14540-000]

Lock+ Hydro Friends Fund III, LLC, Western Minnesota Municipal Power Agency; Notice Announcing Preliminary Permit Drawing

The Commission has received two preliminary permit applications deemed filed on July 23, 2013 at 8:30 a.m.,¹ for proposed projects to be located at the U.S. Army Corps of Engineers' Melvin Price Locks and Dam on the Mississippi River, near the City of Alton, in Madison County, Illinois, and the City of West Alton, in St. Charles County, Missouri. The applications were filed by Lock+ Hydro Friends Fund III, LLC for Project No. 14539-000 and Western Minnesota Municipal Power Agency for Project No. 14540-000.

¹ Under the Commission's Rules of Practice and Procedure, any document received after regular business hours is considered filed at 8:30 a.m. on the next regular business day. See 18 CFR.385.2001(a)(2) (2013).

On November 25, 2013, at 10:00 a.m. (Eastern Time), the Secretary of the Commission, or her designee, will conduct a random drawing to determine the filing priority of the applicants identified in this notice. The Commission will select between the two competing permit applications as provided in section 4.37 of its regulations.² The priority established by this drawing will be used to determine which applicant, between those with identical filing times, will be considered to have the first-filed application.

² See id. 4.37.

The drawing is open to the public and will be held in room 2C, the Commission Meeting Room, located at 888 First Street NE., Washington, DC 20426. The Secretary will issue a subsequent notice announcing the results of the drawing.

Dated: November 19, 2013.
Nathaniel J. Davis, Sr.,
Deputy Secretary.

[FR Doc. 2013-28345 Filed 11-25-13; 8:45 am]

BILLING CODE 6717-01-P